DEPARTMENT OF HEALTH AND HUMAN SERVICES

Administration for Children and Families

[Office of Management and Budget #: 0970-0614]

Proposed Information Collection Activity; Tribal Maternal, Infant, and Early Childhood Home Visiting Program: Demographic and Service Utilization Data Report and Performance Measurement Data Report

AGENCY: Office of Early Childhood Development, Administration for Children and Families, U.S. Department of Health and Human Services.

ACTION: Request for public comments.

SUMMARY: The Office of Early Childhood Development (ECD) is requesting a 3-year extension with revisions to annual reporting instruments under Office of Management and Budget (OMB) Control #: 0970-0614. This includes proposed revisions to the Demographic and Service Utilization Data Report (DSUR), an extension of the Performance Measurement Data Report (PMR) with no changes, and announces the discontinuation of the Quarterly Performance Report (QPR).

DATES: Comments due April 27, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: ECD is requesting approval for the Tribal Maternal, Infant, and Early Childhood Home Visiting (Tribal MIECHV) program information collection under OMB Control #: 0970-0614, which consists of the DSUR and the PMR. These instruments are used by Tribal MIECHV grant recipients to report annual data on participant demographics, service utilization, staffing, and required performance measures. ECD uses this information to monitor program implementation, assess progress in key outcome areas, inform technical assistance, and meet required annual reporting expectations.

The DSUR includes revisions to streamline reporting and reduce burden for Tribal MIECHV grant recipients. These revisions reduce the number of data reporting tables, remove data elements that are no longer needed, and update terminology to improve clarity and alignment with current reporting requirements. The changes simplify reporting while retaining information necessary for program administration and monitoring.

The PMR is included in this request as an extension with no changes to content; however, the estimated reporting burden has been updated based on findings from a 2024 administrative burden assessment. The PMR collects annual performance data related to benchmark areas required under statute and is used by ECD to assess grant recipient performance and report on program outcomes.

The QPR is removed from under this OMB number as ECD replaced the QPR with a smaller set of operational questions that will be collected through monthly calls, as approved under OMB #: 0970-0490. This change significantly reduces burden while maintaining necessary monitoring functions.

These updates reflect ECD's ongoing effort to streamline Tribal MIECHV reporting, reduce administrative burden for grant recipients, and maintain the high-quality data needed to understand program performance and support Tribal communities effectively.

Respondents: Tribal MIECHV program grant recipients.

Annual Burden Estimates

Annual burden estimates have been updated based on findings from a 2024 administrative burden assessment of Tribal MIECHV reporting requirements. Revisions reflect reduced time to complete the streamlined DSUR, updated burden estimates for the PMR, and removal of burden associated with the discontinued QPR.

Instrument | Total number of respondents | Annual number of responses per respondent | Average burden hours per response | Annual burden hours
Tribal MIECHV Demographic Service Utilization Data Report (Grant Recipients) | 68 | 1 | 146 | 9,928
Tribal MIECHV Demographic & Service Utilization Data Report (Families) | 2,087 | 1 | 30 Seconds | 17
Tribal MIECHV Performance Measures Report | 68 | 1 | 151.2 | 10,282
Estimated Total Annual Burden Hours |  |  |  | 20,227

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 711.

Mary C. Jones,
ACF/OPRE Certifying Officer.

[FR Doc. 2026-03712 Filed 2-24-26; 8:45 am]

BILLING CODE 4182-07-P